FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted August 1, 2013 thru August 30, 2013
08/02/2013 | 20131091 | G | Crestview Partners II, L.P.; DSW Holding Company, LLC; Crestview Partners II, L.P.
| 20131095 | G | Riverstone Global Energy and Power Fund; Apache Corporation; Riverstone Global Energy and Power Fund.
| 20131096 | G | TPG VI DE AIV II, L.P.; Envision RX Options Holdings Inc.; TPG VI DE AIV II, L.P.
| 20131102 | G | ASAC II LP; Activision Blizzard, Inc.; ASAC II LP.
| 20131119 | G | Abbott Laboratories; OptiMedica Corporation; Abbott Laboratories.
08/05/2013 | 20131109 | G | EATELCORP, L.L.C.; Gladstone Investment Corporation; EATELCORP, L.L.C.
08/07/2013 | 20131101 | G | JPMorgan Chase & Co.; Pate Holding Company, L.L.P.; JPMorgan Chase & Co.
08/09/2013 | 20131082 | G | Amgen Inc.; Servier SAS; Amgen Inc.
| 20131103 | G | Genesis Energy, L.P.; Hornbeck Offshore Services, Inc.; Genesis Energy, L.P.
| 20131104 | G | Enstar Group Limited; Torus Insurance Holdings Limited; Enstar Group Limited
| 20131105 | G | First Reserve Fund XI Offshore AIV, L.P.; Enstar Group Limited; First Reserve Fund XI Offshore AIV, L.P.
| 20131106 | G | First Reserve Fund XII LP; Enstar Group Limited; First Reserve Fund XII LP.
| 20131107 | G | General Atlantic Partners (Bermuda) III, L.P.; Banco Santander, S.A.; General Atlantic Partners (Bermuda) III, L.P.
| 20131108 | G | Warburg Pincus (IO) XI (Cayman), L.P.; Banco Santander, S.A.; Warburg Pincus (IO) XI (Cayman), L.P.
| 20131111 | G | American Industrial Partners Capital Fund V, L.P.; Nordstjernan AB; American Industrial Partners Capital Fund V, L.P.
| 20131113 | G | MicroPort Scientific Corporation; Wright Medical Group, Inc.; MicroPort Scientific Corporation.
| 20131124 | G | Hubbard Broadcasting, Inc.; Alice S. White Living Trust; Hubbard Broadcasting, Inc.
| 20131125 | G | Boise Cascade Company; Wood Resources LLC; Boise Cascade Company.
| 20131129 | G | Genossenschaft Constanter; DW Healthcare Partners, L.P.; Genossenschaft Constanter.
| 20131131 | G | Gentex Corporation; Johnson Controls, Inc.; Gentex Corporation.
08/12/2013 | 20130993 | G | L'Air Liquide S.A.; John P. deNeufville; L'Air Liquide S.A.
| 20131141 | G | HAS Development Corporation; Abertis Infraestructuras, S.A.; HAS Development Corporation.
08/13/2013 | 20131115 | G | Lynden Incorporated; Endeavour Capital Fund IV, L.P.; Lynden Incorporated.
| 20131145 | G | B/E AEROSPACE, INC.; Blue Dot Energy Services, LLC; B/E AEROSPACE, INC.
08/14/2013 | 20131012 | G | Johnson & Johnson; Aragon Pharmaceuticals, Inc.; Johnson & Johnson.
| 20131097 | G | Trian Partners Strategic Investment Fund, L.P.; Mondelez International, Inc.; Trian Partners Strategic Investment Fund, L.P.
| 20131117 | G | Abbott Laboratories; IDEV Technologies, Inc.; Abbott Laboratories.
08/16/2013 | 20131027 | G | Precision Castparts Corp.; Bridgepoint Europe III 6 FCPR; Precision Castparts Corp.
| 20131099 | G | Carl C. Icahn; Apple Inc.; Carl C. Icahn.
| 20131118 | G | Welsh, Carson, Anderson & Stowe XI, L.P.; Alert Logic, Inc.; Welsh, Carson, Anderson & Stowe XI, L.P.
| 20131120 | G | Providence Equity Partners VI L.P.; Informa plc; Providence Equity Partners VI L.P.
| 20131146 | G | Susanne Klatten; Rockwood Holdings, Inc.; Susanne Klatten.
| 20131150 | G | Adage Capital Partners, L.P.; Puma Biotechnology, Inc.; Adage Capital Partners, L.P.
| 20131153 | G | Catamaran LLC; The F. Dohmen Co.; Catamaran LLC.
| 20131154 | G | Blucora, Inc.; Jong Suk Lee; Blucora, Inc.
| 20131155 | G | KKR North American Fund XI, L.P.; Warburg Pincus Private Equity X, L.P.; KKR North American Fund XI, L.P.
| 20131157 | G | Hellman & Friedman Capital Partners VII, L.P.; Maple Tree Holdings, L.P.; Hellman & Friedman Capital Partners VII, L.P.
| 20131162 | G | TA XI L.P.; John Rante; TA XI L.P.
| 20131163 | G | Cummins Inc.; R. Kevin Shanahan; Cummins Inc.
| 20131164 | G | Mark Yragui; R. Kevin Shanahan; Mark Yragui.
08/19/2013 | 20131081 | G | Deutsche Telekom AG; Telephone and Data Systems, Inc. Voting; Deutsche Telekom AG.
| 20131158 | G | Apollo Investment Fund VII, L.P.; Pitney Bowes Inc.; Apollo Investment Fund VII, L.P.
| 20131159 | G | Target Corporation; IB Holding, LLC; Target Corporation.
08/20/2013 | 20131137 | G | Dominic Origlio, Jr.; Terrance J. McGlinn, Sr.; Dominic Origlio, Jr.
| 20131138 | G | Jeffrey A. Honickman; Terrence J. McGlinn, Sr.; Jeffrey A. Honickman
08/21/2013 | 20130835 | G | Koch Industries, Inc.; Buckeye Technologies Inc.; Koch Industries, Inc.
08/22/2013 | 20131132 | G | PS V International, Ltd.; Air Products and Chemicals, Inc.; PS V International, Ltd.
| 20131133 | G | Pershing Square Holdings, Ltd.; Air Products and Chemicals, Inc.; Pershing Square Holdings, Ltd.
| 20131134 | G | Pershing Square, L.P.; Air Products and Chemicals, Inc.; Pershing Square, L.P.
| 20131135 | G | Pershing Square International, Ltd.; Air Products and Chemicals, Inc.; Pershing Square International, Ltd.
08/23/2013 | 20131169 | G | Platinum Equity Capital Partners III, L.P.; Emerson Electric Co.; Platinum Equity Capital Partners III, L.P.
| 20131172 | G | Post Holdings, Inc.; Premier Nutrition Corporation; Post Holdings, Inc.
| 20131175 | G | QUIKRETE Holdings, Inc.; Kelso Investment Associates VII, L.P.; QUIKRETE Holdings, Inc.
| 20131184 | G | SolarCity Corporation; BKM Holdings, LLC; SolarCity Corporation.
| 20131185 | G | TA XI L.P.; SoftWriters Group, LLC; TA XI L.P.
| 20131186 | G | Humana Inc.; Robert G. Schemel; Humana Inc.
| 20131191 | G | Blackstone Capital Partners V, L.P.; Unilever N.V.; Blackstone Capital Partners V, L.P.
08/26/2013 | 20131171 | G | Silver Lake Sumeru Fund, L.P.; BlackLine Systems, Inc.; Silver Lake Sumeru Fund, L.P.
08/28/2013 | 20131123 | G | Hanesbrands Inc.; Maidenform Brands, Inc.; Hanesbrands Inc.
| 20131156 | G | Hudson's Bay Trading Company, L.P.; Saks Incorporated; Hudson's Bay Trading Company, L.P.
| 20131161 | G | Carl C. Icahn; Nuance Communications, Inc.; Carl C. Icahn.
08/29/2013 | 20131166 | G | Marcato, L.P.; Sotheby's; Marcato, L.P.
| 20131167 | G | Marcato International Ltd.; Sotheby's; Marcato International Ltd.
| 20131176 | G | AOL Inc.; Adap.tv, Inc.; AOL Inc.
08/30/2013 | 20131189 | G | Vahid David Delrahim; Sally Anenberg; Valid David Delrahim.
| 20131199 | G | Platinum Equity Capital Partners III, L.P.; JPMorgan Chase & Co.; Platinum Equity Capital Partners III, L.P.
| 20131208 | G | AOT Building Products LP; CPG International Holdings LP. AOT Building Products LP.
| 20131210 | G | Eurasian Resources Group; Eurasian Natural Resources Corporation PLC; Eurasian Resources Group.
| 20131218 | G | Mr. John W. Henry; The New York Times Company; Mr. John W. Henry.

FOR FURTHER INFORMATION CONTACT: Renee Chapman, Contact Representative, or Theresa Kingsberry, Legal Assistant, Federal Trade Commission, Premerger Notification Office, Bureau of Competition, Room H-303, Washington, DC 20580, (202) 326-3100.

By Direction of the Commission.
Donald S. Clark,
Secretary.

[FR Doc. 2013-22333 Filed 9-16-13; 8:45 am]

BILLING CODE 6750-01-M